FEDERAL DEPOSIT INSURANCE CORPORATION

12 CFR Part 325

RIN 3064-AE84

Company-Run Stress Testing Requirements for FDIC-Supervised State Nonmember Banks and State Savings Associations; Correction

AGENCY: Federal Deposit Insurance Corporation.

ACTION: Final rule; correcting amendments.

SUMMARY: The Federal Deposit Insurance Corporation (FDIC) is correcting a final rule that appeared in the Federal Register on October 24, 2019, regarding Company-Run Stress Testing Requirements for FDIC-Supervised State Nonmember Banks and State Savings Associations. This correction replaces three additional references to “subpart” with “part,” in order to standardize the language in FDIC regulations.

DATES: Effective November 25, 2019.

FOR FURTHER INFORMATION CONTACT: Ryan Sheller, Section Chief, Division of Risk Management, (202) 412-4861, RSheller@fdic.gov, or Benjamin Klein, Counsel, Legal Division, (202) 898-7027, bklein@fdic.gov, Federal Deposit Insurance Corporation, 550 17th Street NW, Washington, DC 20429.

SUPPLEMENTARY INFORMATION: On October 24, 2019, the FDIC published a final rule, Company-Run Stress Testing Requirements for FDIC-Supervised State Nonmember Banks and State Savings Associations.¹ As discussed in the preamble,² the final rule changed references to “subpart” to “this part” following the redesignation of the FDIC's stress test rule from subpart C of 12 CFR part 325 to occupy all of part 325.³ The final rule inadvertently omitted corresponding changes from “subpart” to “part” in three sections of the final rule: §§ 325.1(c)(7), 325.3(a)(1), and 325.7(b). Accordingly, this document is issued to correct those sections of the final rule with the appropriate references to “part” 325.

¹ 84 FR 56929 (Oct. 24, 2019).

² 84 FR 56929, 56932.

³ 83 FR 17737 (April 24, 2019).

For the reasons set out in the preamble, the FDIC hereby amend 12 CFR part 325 by making the following correcting amendments.

PART 325—STRESS TESTING

1. The authority citation for part 325 continues to read as follows:

Authority: 12 U.S.C. 5365(i)(2), 12 U.S.C. 5412(b)(2)(C), 12 U.S.C. 1818, 12 U.S.C. 1819(a)(Tenth), 12 U.S.C. 1831o, and 12 U.S.C. 1831p-1.

2. Amend § 325.1 by revising paragraph (c)(7) to read as follows:

§ 325.1 Authority, purpose, and reservation of authority.

* * * * *

(c) * * *

(7) Nothing in this part limits the authority of the Corporation under any other provision of law or regulation to take supervisory or enforcement action, including action to address unsafe and unsounds practices or conditions, or violations of law or regulation.

* * * * *

3. Amend § 325.3 by revising paragraph (a)(1) to read as follows:

§ 325.3 Applicability

(a) * * *

(1) A state nonmember bank or state savings association that is a covered bank as of December 31, 2019, is subject to the requirements of this part for the 2020 reporting year.

* * * * *

4. Amend § 325.7 by revising paragraph (b) to read as follows:

§ 325.7 Publication of stress test results.

* * * * *

(b) Publication method. The summary required under this section may be published on the covered ban's website or in any other forum that is reasonably accessible to the public. A covered bank that is a consolidated subsidiary of a bank holding company or savings and loan holding company that is required to conduct a company-run stress test under applicable regulations of the Board of Governors of the Federal Reserve System will be deemed to have satisfied the public disclosure requirements under this part if it publishes a summary of its stress test results with its parent bank holding company's or savings and loan holding company's summary of stress test results. Subsidiary covered banks electing to satisfy their public disclosure requirement in this manner must include a summary of changes in regulatory capital ratios of such covered bank over the planning horizon, and an explanation of the most significant causes for the changes in regulatory capital ratios.

* * * * *

Dated on November 18, 2019.
Federal Deposit Insurance Corporation.
Annmarie H. Boyd,
Assistant Executive Secretary.

[FR Doc. 2019-25691 Filed 11-22-19; 8:45 am]

BILLING CODE 6714-01-P